FEDERAL COMMUNICATIONS COMMISSION

47 CFR Part 79

[CG Docket No. 05-231; FCC 24-80; FR ID 235802]

Closed Captioning of Video Programming

AGENCY: Federal Communications Commission.

ACTION: Proposed rule; correction.

SUMMARY: The Federal Communications Commission (Commission) published a proposed rule document in the Federal Register of August 2, 2024 (89 FR 63135). The document contained an incorrect deadline for filing replies to comments filed in response to the proposed rule. This document corrects the deadline for replies to comments filed in response to the proposed rule.

DATES: August 23, 2024.

ADDRESSES: Federal Communications Commission, 45 L Street NE, Washington, DC 20554.

FOR FURTHER INFORMATION CONTACT: Joshua Mendelsohn, Disability Rights Office, Consumer and Governmental Affairs Bureau, at 202-559-7304, or Joshua.Mendelsohn@fcc.gov.

SUPPLEMENTARY INFORMATION:

Correction

In the Federal Register of August 2, 2024, in FR Doc. 17071, on page 63135, in the first column, correct the DATES section to read:

DATES: Comments are due September 3, 2024. Reply comments are due October 1, 2024.

Federal Communications Commission.
Katura Jackson,
Federal Register Liaison Officer.

[FR Doc. 2024-18541 Filed 8-22-24; 8:45 am]

BILLING CODE 6712-01-P